DEPARTMENT OF THE TREASURY

Office of the General Counsel; Appointment of Members of the Legal Division to the Performance Review Board, Internal Revenue Service

Under the authority granted to me as Acting Chief Counsel of the Internal Revenue Service by the General Counsel of the Department of the Treasury by General Counsel Directive 15, pursuant to the Civil Service Reform Act, I have appointed the following persons to the Legal Division Performance Review Board, Internal Revenue Service Panel:

1. Brian Callanan, Deputy General Counsel

2. Mary Beth Murphy, Commissioner (Small Business/Self Employed), IRS

3. Donna C. Hansberry, Chief (Appeals), IRS

Alternate—Doug W. O'Donnell, Commissioner (Large Business & International), IRS

This publication is required by 5 U.S.C. 4314(c)(4).

Dated: October 20, 2017.
William M. Paul,
Acting Chief Counsel, Internal Revenue Service.

[FR Doc. 2017-23719 Filed 10-31-17; 8:45 am]

BILLING CODE 4830-01-P